DEPARTMENT OF THE INTERIOR

National Park Service

[NPS-WASO-NAGPRA-20785; PPWOCRADN0-PCU00RP14.R50000]

Notice of Intent To Repatriate Cultural Items: Peabody Museum of Archaeology and Ethnology, Harvard University, Cambridge, MA

AGENCY: National Park Service, Interior.

ACTION: Notice.

SUMMARY: The Peabody Museum of Archaeology and Ethnology, in consultation with the appropriate Indian tribes or Native Hawaiian organizations, has determined that the cultural item listed in this notice meet the definition of a sacred object and an object of cultural patrimony. Lineal descendants or representatives of any Indian tribe or Native Hawaiian organization not identified in this notice that wish to claim these cultural items should submit a written request to the Peabody Museum of Archaeology and Ethnology. If no additional claimants come forward, transfer of control of the cultural items to the lineal descendants, Indian tribes, or Native Hawaiian organizations stated in this notice may proceed.

DATES: Lineal descendants or representatives of any Indian tribe or Native Hawaiian organization not identified in this notice that wish to claim this cultural item should submit a written request with information in support of the claim to the Peabody Museum of Archaeology and Ethnology at the address in this notice by May 31, 2016.

ADDRESSES: Patricia Capone, Peabody Museum of Archaeology and Ethnology, Harvard University, 11 Divinity Avenue, Cambridge, MA 02138, telephone (617) 496-3702.

SUPPLEMENTARY INFORMATION: Notice is here given in accordance with the Native American Graves Protection and Repatriation Act (NAGPRA), 25 U.S.C. 3005, of the intent to repatriate a cultural item under the control of the Peabody Museum of Archaeology and Ethnology, Harvard University, Cambridge, MA, that meets the definition of a sacred object and an object of cultural patrimony under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

A leather war cap was collected by Henry M. Wheelwright between 1901 and 1904 from an unknown location in the southwestern part of the United States. Initially, this object was part of a loan presented to the Peabody Museum by Ruth E. Wheelwright in 1939. The loan was subsequently converted to a gift in 1963. The cap is made of two leather pieces sewn together. It has a leather chin strap that is attached at two points on the bottom. A folded band of red fabric is applied along the bottom and is secured with a top layer of painted, serrated leather band sewn across the bottom. There are two cross symbols on the cap: A black one on one side and a red one on the opposite side. Underneath the red cross, the bottom edge of the cap has been cut in a serrated fashion. A cluster of 13 feathers are attached to the crown of the cap with leather thongs; the end of each feather is wrapped with sinew. The cap measures 13.5 x 47.5 x 41 cm (5 5/16 x 18 11/16 x 16 ⅛ in.)

In the initial loan documentation, the cap was described as “Apache Southwest.” At a later time, “Navajo” was added to the culture field on the museum catalogue card. Consultations with the Navajo Nation in 2013 confirmed that the item is not Navajo but is Western Apache. Further consultation with the White Mountain Apache Tribe indicate that stylistic and symbolic characteristics of this item are consistent with traditional Western Apache forms.

Anthropological, historical, and oral historical evidence indicate that the item described above is a specific ceremonial object needed by traditional Native American religious leaders for the practice of traditional Native American religions by their present-day adherents. In addition, these lines of evidence also support that this item has ongoing, traditional and cultural importance central to the Western Apache tribes and could not have been alienated, appropriated or conveyed by any individual tribal member at the time it was separated from the group.

Determinations Made by the Peabody Museum of Archaeology and Ethnology

Officials of the Peabody Museum of Archaeology and Ethnology have determined that:

• Pursuant to 25 U.S.C. 3001(3)(C), the one cultural item described above is a specific ceremonial object needed by traditional Native American religious leaders for the practice of traditional Native American religions by their present-day adherents.

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between the sacred objects and object of cultural patrimony and the San Carlos Apache Tribe of the San Carlos Reservation, Arizona; Tonto Apache Tribe of Arizona; White Mountain Apache Tribe of the Fort Apache Reservation, Arizona; and Yavapai-Apache Nation of the Camp Verde Indian Reservation, Arizona.

Additional Requestors and Disposition

Lineal descendants or representatives of any Indian tribe or Native Hawaiian organization not identified in this notice that wish to claim this cultural item should submit a written request with information in support of the claim to Patricia Capone, Peabody Museum of Archaeology and Ethnology, Harvard University, 11 Divinity Avenue, Cambridge, MA 02138, telephone (617) 496-3702, by May 31, 2016. After that date, if no additional claimants have come forward, transfer of control of the sacred object and object of cultural patrimony to the San Carlos Apache Tribe of the San Carlos Reservation, Arizona; Tonto Apache Tribe of Arizona; White Mountain Apache Tribe of the Fort Apache Reservation, Arizona; and Yavapai-Apache Nation of the Camp Verde Reservation, Arizona may proceed.

The Peabody Museum of Archaeology and Ethnology is responsible for notifying the San Carlos Apache Tribe of the San Carlos Reservation, Arizona; Tonto Apache Tribe of Arizona; White Mountain Apache Tribe of the Fort Apache Reservation, Arizona; and Yavapai-Apache Nation of the Camp Verde Reservation, Arizona.

Dated: April 4, 2016.
Melanie O'Brien,
Manager, National NAGPRA Program.

[FR Doc. 2016-10068 Filed 4-28-16; 8:45 am]

BILLING CODE 4312-50-P